DEPARTMENT OF COMMERCE

National Oceanic and Atmospheric Administration

[RTID 0648-XC343]

Pacific Fishery Management Council; Public Meeting

AGENCY: National Marine Fisheries Service (NMFS), National Oceanic and Atmospheric Administration (NOAA), Commerce.

ACTION: Notice of a public meeting.

SUMMARY: The Pacific Fishery Management Council's (Pacific Council) Coastal Pelagic Species Management Team (CPSMT) will hold a public meeting.

DATES: The meeting will be held Tuesday, September 27 and Wednesday, September 28, 2022, from 8:30 a.m. to 5 p.m. Pacific daylight time and Thursday, September 29, 2022, from 8:30 a.m. to 1 p.m. or until business for the day has been completed.

ADDRESSES: This meeting will be held at the Buzzelli/Loeb Room (Room 155) of the Scripps Institute of Oceanography at 8610 Kennel Way, La Jolla, CA 92037.

Council address: Pacific Fishery Management Council, 7700 NE Ambassador Place, Suite 101, Portland, OR 97220-1384.

FOR FURTHER INFORMATION CONTACT: Jessi Doerpinghaus, Staff Officer, Pacific Council; telephone: (503) 820-2415.

SUPPLEMENTARY INFORMATION: The primary purpose of this meeting is to discuss and potentially develop work products and recommendations for the Pacific Council's November 2022 meeting and April 2023 meeting. Topics will include Fishery Management Plan housekeeping, stock assessment prioritization, and essential fish habitat review. Other items on the Pacific Council's November agenda or future Council agendas may be discussed as well. The CPSMT will also be discussing changes to the CPS stock assessment and fishery evaluation (SAFE) document. The meeting agenda will be available on the Pacific Council's website in advance of the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: September 7, 2022.
Rey Israel Marquez,
Acting Deputy Director, Office of Sustainable Fisheries, National Marine Fisheries Service.

[FR Doc. 2022-19651 Filed 9-9-22; 8:45 am]

BILLING CODE 3510-22-P